DEPARTMENT OF DEFENSE

Department of the Army, Corps of Engineers

Table Rock Lake Oversight Committee Meetings; Notice of Federal Advisory Committee Meeting; Cancellation

AGENCY: Department of the Army, U.S. Army Corps of Engineers, DoD.

ACTION: Notice of federal advisory committee meeting; cancellation.

SUMMARY: On February 6, 2020, the Department of Defense (DoD) published an updated notice that announced the third meeting of the Table Rock Lake Oversight Committee, which was to take place on Wednesday, May 6, 2020 from 8:00 a.m. to 5:00 p.m. DoD is publishing this notice to announce that this federal advisory committee meeting has been cancelled due to COVID-19 concerns (the State of Missouri is under “Stay at Home” orders) and will be re- scheduled at a later date, along with meeting four.

FOR FURTHER INFORMATION CONTACT: Mr. Kevin McDaniels, Designated Federal Officer (DFO) for the Committee, in writing at U.S. Army Corps of Engineers, Little Rock District, Operations Division, P.O. Box 867 Little Rock, Arkansas 72203-0867, or by email at CESWL-TRLOC-DFO@usace.army.mil.

SUPPLEMENTARY INFORMATION: This notice meets the 15-day notification requirement as required by 41 CFR 102-3.150(a) concerning the cancellation of its previously noticed meeting of May 6, 2020.

On February 6, 2020, the Department of Defense (DoD) published an updated notice (85 FR 6937) that announced the third meeting of the Table Rock Lake Oversight Committee, which was to take place on Wednesday, May 6, 2020 from 8:00 a.m. to 5:00 p.m. DoD is publishing this notice to announce that this federal advisory committee meeting has been cancelled due to COVID-19 concerns (the State of Missouri is under “Stay at Home” orders) and will be re-scheduled at a later date, along with meeting four. The rescheduled meetings will be announced in the Federal Register.

Dated: April 10, 2020.
Pete G. Perez,
Director, Programs Directorate.

[FR Doc. 2020-08071 Filed 4-16-20; 8:45 am]

BILLING CODE 3720-58-P